DEPARTMENT OF TRANSPORTATION

Federal Aviation Administration

14 CFR Part 39

[Docket No. FAA-2006-24667; Directorate Identifier 2006-NM-009-AD]

RIN 2120-AA64

Airworthiness Directives; Goodyear Aviation Tires, Part Number 217K22-1, Installed on Various Transport Category Airplanes, Including But Not Limited to Bombardier Model BD-700-1A10 and BD-700-1A11 Airplanes; and Gulfstream Model G-1159, G-1159A, G-1159B, G-IV, GIV-X, GV, and GV-SP Series Airplanes

AGENCY: Federal Aviation Administration (FAA), Department of Transportation (DOT).

ACTION: Notice of proposed rulemaking (NPRM).

SUMMARY: The FAA proposes to adopt a new airworthiness directive (AD) for certain aviation tires installed on various transport category airplanes. This proposed AD would require a one-time inspection of the nosewheel tires to determine if they are within a designated serial number range, and replacement if necessary. This proposed AD results from reports of tread separations and tread-area bulges on the nosewheel tires. We are proposing this AD to prevent tread separation from a nosewheel tire during takeoff or landing, which could result in compromised nosewheel steering or ingestion of separated tread by an engine, and consequent reduced controllability of the airplane on the runway or in the air.

DATES: We must receive comments on this proposed AD by June 19, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Bombardier, Inc., Bombardier Regional Aircraft Division, 123 Garratt Boulevard, Downsview, Ontario M3K 1Y5, Canada; Gulfstream Aerospace Corporation, Technical Publications Dept., P.O. Box 2206, Savannah, Georgia 31402-2206; or Goodyear Tire and Rubber Company, 1144 E. Market Street, Akron, OH 44316-0001; as applicable, for service information identified in this proposed AD.

FOR FURTHER INFORMATION CONTACT: Nick Miller, Aerospace Engineer, Systems and Flight Test Branch, ACE-117C, Chicago Aircraft Certification Office, FAA, 2300 East Devon Avenue, Room 107, Des Plaines, IL 60018; telephone (847) 294-7518; fax (847) 294-7834.

SUPPLEMENTARY INFORMATION:

Comments Invited

We invite you to submit any relevant written data, views, or arguments regarding this proposed AD. Send your comments to an address listed in the ADDRESSES section. Include the docket number “FAA-2006-24667; Directorate Identifier 2006-NM-009-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received reports of tread separations and tread-area bulges on certain Goodyear Aviation nosewheel tires that are within a designated serial number range. Investigation revealed that the nosewheel tires have poor adhesion properties, which could cause tread loss during takeoff or landing. This condition, if not corrected, could result in compromised nosewheel steering or ingestion of separated tread by an engine, and consequent reduced controllability of the airplane on the runway or in the air.

Relevant Service Information

We have reviewed Goodyear Aviation Service Bulletin SB-2005-32-004, Revision 5, dated December 22, 2005. The service bulletin describes procedures for inspecting the nosewheel tires for the affected serial numbers, and for replacing affected tires. Accomplishing the actions specified in the service information is intended to adequately address the unsafe condition.

We have also reviewed the following Gulfstream Alert Customer Bulletins. These Alert Customer Bulletins, all dated October 12, 2005, are additional sources of service information for identifying the affected serial numbers and replacing the tires if necessary.

Gulfstream Alert Customer Bulletins
Gulfstream model | Alert customer bulletin
G-1159 (G-II) and G-1159B (G-IIB) series airplanes | G-II and G II-B, Number 30.
G-1159A (G-III) series airplanes | G-III, Number 16.
G-IV (G-IV, G300, G400) series airplanes | G-IV, Number 34; G300, Number 34; and G400, Number 34.
GIV-X (G350, G450) series airplanes | G350, Number 3; and G450, Number 3.
GV series airplanes | GV, Number 24.
GV-SP (G550, G500) series airplanes | G500, Number 5; and G550, Number 5.

FAA's Determination and Requirements of the Proposed AD

We have evaluated all pertinent information and identified an unsafe condition that is likely to exist or develop on other products of this same type design. For this reason, we are proposing this AD, which would require accomplishing the actions specified in the Goodyear Aviation service information described previously, except as discussed under “Differences Between the Proposed AD and the Service Information.”

Differences Between the Proposed AD and the Service Information

Although the Goodyear Aviation service bulletin specifies a compliance time of 14 days for replacing affected tires, this proposed AD would require a compliance time of 60 days for doing the replacement. Most have complied with the proposed requirements, and the majority of the affected tires have been removed from service. Therefore, a compliance time of 60 days would ensure that the remainder of the tires are removed from service within a time that does not compromise safety.

Although the Goodyear Aviation service bulletin specifies to return tires to the manufacturer, this proposed AD would not require that action.

Explanation of Service Bulletin Revisions

This proposed AD would give credit to operators for previous accomplishment of the original release of Goodyear Aviation Service Bulletin SB-2005-32-004, dated October 11, 2005, but not for accomplishment of revisions 1 through 4 of the service bulletin. Revisions 1 through 4 of the service bulletin were internal to Goodyear and were not released to operators.

Costs of Compliance

There are about 1,282 Gulfstream airplanes and about 104 Bombardier airplanes that use the affected tires in the worldwide fleet. This proposed AD would affect about 1,035 Gulfstream airplanes, and about 104 Bombardier airplanes of U.S. registry. The proposed inspection for the affected serial numbers would take about 1 work hour per airplane, at an average labor rate of $80 per work hour. Based on these figures, the estimated cost of the proposed AD for U.S. operators is $91,120, or $80 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Transport Category Airplanes: Docket No. FAA-2006-24667; Directorate Identifier 2006-NM-009-AD.

Comments Due Date

(a) The FAA must receive comments on this AD action by June 19, 2006.

Affected ADs

(b) None.

Applicability

(c) This AD applies to Goodyear Aviation Tires, Part Number 217K22-1, identified in Goodyear Aviation Service Bulletin SB-2005-32-004, Revision 5, dated December 22, 2005; installed on various transport category airplanes, certificated in any category, including but not limited to Bombardier Model BD-700-1A10 and BD-700-1A11 airplanes; and Gulfstream Model G-1159, G-1159A, G-1159B, G-IV, GIV-X, GV, and GV-SP series airplanes.

Unsafe Condition

(d) This AD results from reports of tread separations and tread-area bulges on the nosewheel tires. We are issuing this AD to prevent tread separation from nosewheel tires during takeoff or landing, which could result in compromised nosewheel steering or ingestion of separated tread by an engine, and consequent reduced controllability of the airplane on the runway or in the air.

Compliance

(e) You are responsible for having the actions required by this AD performed within the compliance times specified, unless the actions have already been done.

Inspection to Determine Serial Number, and Replacement

(f) Within 60 days after the effective date of this AD: Inspect the nosewheel tires to determine whether an affected serial number (S/N) is installed, in accordance with the Accomplishment Instructions of Goodyear Aviation Service Bulletin SB-2005-32-004, Revision 5, dated December 22, 2005; and, except as provided by paragraph (g) of this AD, replace any tire with an affected S/N before further flight in accordance with the Accomplishment Instructions of the service bulletin.

Note 1: The Gulfstream Alert Customer Bulletins listed in Table 1 of this AD are additional sources of service information for identifying the affected serial numbers and replacing the tires as applicable.

Table 1.—Gulfstream Alert Customer Bulletins
Gulfstream model | Alert customer bulletin | Date
G-1159 (GII) and G-1159B (GIIB)series airplanes | G-II and G II-B, Number 30 | October 12, 2005.
G-1159A (GIII) series airplanes | G-III, Number 16 | October 12, 2005.
G-IV (G-IV, G300, G400) series airplanes | G-IV, Number 34; G300, Number 34; and G400, Number 34 | October 12, 2005.
GIV-X (G450, G350) series airplanes | G350, Number 3; and G450, Number 3 | October 12, 2005.
GV series airplanes | GV, Number 24 | October 12, 2005.
GV-SP (G550, G500) series airplanes | G500, Number 5; and G550, Number 5 | October 12, 2005.

Special Flight Permit

(g) A special flight permit may be issued in accordance with sections 21.197 and 21.199 of the Federal Aviation Regulations (14 CFR 21.197 and 21.199) for one flight to operate the airplane to a location where the requirements of this AD can be accomplished, provided no bulge is present on the tire with the affected S/N.

Parts Installation

(h) After the effective date of this AD, no person may install on any airplane a nosewheel tire that has an S/N in the affected range identified in the Accomplishment Instructions of Goodyear Aviation Service Bulletin SB-2005-32-004, Revision 5, dated December 22, 2005.

No Parts Return

(i) Although Goodyear Aviation Service Bulletin SB-2005-32-004, Revision 5, dated December 22, 2005, specifies to return tires to the manufacturer, this AD does not require that action.

Actions Accomplished in Accordance With Original Issue of Service Bulletin

(j) Actions done before the effective date of this AD in accordance with Goodyear Aviation Service Bulletin SB-2005-32-004, dated October 11, 2005, are acceptable for compliance with the requirements of this AD.

Alternative Methods of Compliance (AMOCs)

(k)(1) The Manager, Chicago Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on April 26, 2006.
Ali Bahrami,
Manager, Transport Airplane Directorate, Aircraft Certification Service.

[FR Doc. E6-6650 Filed 5-2-06; 8:45 am]

BILLING CODE 4910-13-P